NATIONAL SCIENCE FOUNDATION

National Science Board; Sunshine Act Meetings; Notice

The National Science Board's ad hoc Task Force on NEON Performance and Plans, pursuant to NSF regulations (45 CFR part 614), the National Science Foundation Act, as amended (42 U.S.C. 1862n-5), and the Government in the Sunshine Act (5 U.S.C. 552b), hereby gives notice in regard to the scheduling of a meeting for the transaction of National Science Board business, as follows:

DATE AND TIME: Friday, October 23, 2015 at 12 noon to 1 p.m. EDT

STATUS: Closed.

PLACE: This meeting will be held by teleconference originating at the National Science Board Office, National Science Foundation, 4201 Wilson Blvd., Arlington, VA 22230.

MATTERS TO BE CONSIDERED: Task Force Chair's opening remarks; approval of minutes; review of NPP charge; interim update on NPP activities; NSB/NPP next steps; and Chair's closing remarks.

CONTACT PERSON FOR MORE INFORMATION: Please refer to the National Science Board Web site (www.nsf.gov/nsb) for information or schedule updates, or contact: Elise Lipkowitz (elipcowi@nsf.gov), National Science Foundation, 4201 Wilson Blvd., Arlington, VA 22230.

Kyscha Slater-Williams,
Program Specialist.

[FR Doc. 2015-26768 Filed 10-16-15; 4:15 pm]

BILLING CODE 7555-01-P